DEPARTMENT OF ENERGY

Federal Energy Regulatory Commission

[Docket No. AC01-43-000, et al.]

Bangor Hydro-Electric Company, et al.; Electric Rate and Corporate Regulation Filings

June 28, 2001.

Take notice that the following filings have been made with the Commission:

1. Bangor Hydro-Electric Company, Central Maine Power Company, Vermont Electric Power Company

[Docket No. AC01-43-000]

Take notice that Bangor Hydro-Electric Company, Central Maine Power Company, and Vermont Electric Power Company, on May 11, 2001, tendered a request for approval of proposed accounting treatment for costs incurred by these companies associated with their involvement in the establishment of the Northeast Independent Transmission Company, LLC.

Copies of this filing have been served upon the Commission, the Maine Public Utilities Commission, and the Vermont Department of Public Service.

Comment date: July 18, 2001, in accordance with Standard Paragraph E at the end of this notice.

2. Exelon Generation Company, LLC Exelon Power Holdings, LP

[Docket No. EC01-120-000]

Take notice that on June 15, 2001, Exelon Generation Company, LLC (Exelon Generation) and Exelon Power Holdings, LP (EPH) tendered for filing a joint application for authorization pursuant to section 203 of the Federal Power Act to transfer indirect control of jurisdictional facilities, which is being done pursuant to an internal corporate reorganization. The transaction involves the transfer of 100 percent of Exelon Fossil's stock to EPH, which is being formed solely for the purpose of owning Exelon Fossil in order to obtain state tax benefits related to the repayment of an intercompany obligation.

Comment date: July 10, 2001, in accordance with Standard Paragraph E at the end of this notice.

3. Indian River Power, LLC

[Docket No. EG01-209-000]

Take notice that on June 22, 2001, Indian River Power, LLC (Indian River) submitted an order issued on June 21, 2001, by the New Jersey Board of Public Utilities under section 32(c) of the Public Utility Holding Company Act of 1935 (PUHCA) finding that allowing the Indian River facility to be an eligible facility is in the public interest. The submission of the New Jersey order completes the application of Indian River.

Comment date: July 19, 2001, in accordance with Standard Paragraph E at the end of this notice.

4. Vienna Power LLC

[Docket No. EG01-210-000]

Take notice that on June 22, 2001, Vienna Power LLC (Vienna Power) submitted an order issued on June 21, 2001, by the New Jersey Board of Public Utilities under section 32(c) of the Public Utility Holding Company Act of 1935 (PUHCA) finding that allowing the Vienna Power facility to be an eligible facility is in the public interest. The submission of the New Jersey order completes the application of Vienna Power.

Comment date: July 19, 2001, in accordance with Standard Paragraph E at the end of this notice.

5. Keystone Power, LLC

[Docket No. EG01-227-000]

Take notice that on June 22, 2001, Keystone Power, LLC (Keystone) submitted an order issued on June 21, 2001, by the New Jersey Board of Public Utilities under section 32(c) of the Public Utility Holding Company Act of 1935 (PUHCA) finding that allowing the Keystone facility to be an eligible facility is in the public interest. The submission of the New Jersey order completes the application of Keystone.

Comment date: July 19, 2001, in accordance with Standard Paragraph E at the end of this notice.

6. Conemaugh Power, LLC

[Docket No. EG01-228-000]

Take notice that on June 22, 2001, Conemaugh Power, LLC (Conemaugh) submitted an order issued on June 21, 2001, by the New Jersey Board of Public Utilities under section 32(c) of the Public Utility Holding Company Act of 1935 (PUHCA) finding that allowing the Conemaugh facility to be an eligible facility is in the public interest. The submission of the New Jersey order completes the application of Conemaugh.

Comment date: July 19, 2001, in accordance with Standard Paragraph E at the end of this notice.

7. Encogen One Partners, Limited

[Docket No. EG01-243-000]

Take notice that on June 25, 2001, Encogen One Partners, Limited (Encogen One) tendered for filing an application for a determination of exempt wholesale generator status, pursuant to Section 32(a)(1) of the Public Utility Holding Company Act of 1935, as amended, (PUHCA), 15 U.S.C. 79z-5a(a)(1) (1994), and Subchapter T, Part 365 of the regulations of the Federal Energy Regulatory Commission (Commission), 18 CFR Part 365 (2000).

Encogen One is a Texas limited partnership that owns and operates a 257 megawatt gas-fired cogeneration facility located near Sweetwater, Texas. Encogen One states that it will be engaged directly or indirectly through one or more affiliates as defined in Section 2(a)(11)(B) of PUHCA, and exclusively in the business of owning or operating or both owning and operating an eligible facility, and selling electric energy at wholesale.

Comment date: July 19, 2001, in accordance with Standard Paragraph E at the end of this notice. The commission will limit its consideration of comments to those that concern the adequacy or accuracy of the application.

8. Brazos Valley Energy LP

[Docket No. EG01-245-000]

On June 25, 2001, Brazos Valley Energy LP (Brazos Valley), a Delaware limited partnership with its principal place of business in Minneapolis, Minnesota, filed with the Federal Energy Regulatory Commission an application for determination of exempt wholesale generator status pursuant to Part 365 of the Commission's regulations.

Applicant intends to construct an approximate 600 MW natural gas-fired combined cycle independent power production facility near the City of Thompsons, Texas (the Facility). The Facility is currently under development and will be owned by Applicant. Electric energy produced by the Facility will be sold by Applicant to the wholesale power market in ERCOT.

Comment date: July 19, 2001, in accordance with Standard Paragraph E at the end of this notice. The Commission will limit its consideration of comments to those that concern the adequacy or accuracy of the application.

9. Huntington Beach Development, L.L.C.

[Docket No. EG01-246-000]

Take notice that on June 22, 2001, Huntington Beach Development, L.L.C. (Huntington Beach), a Delaware limited liability company with its principal office located at 21730 Newland Street, Huntington Beach, California 92646, filed with the Federal Energy Regulatory Commission (Commission) an Application for Determination of Exempt Wholesale Generator Status pursuant to part 365 of the Commission's regulations.

Huntington Beach states that it plans to repower two electric generation units located in Huntington Beach, California. Huntington Beach will be engaged directly and exclusively in owning the facility, with a capacity of approximately 450 MW, and in selling the output of the facility for resale.

Comment date: July 19, 2001, in accordance with Standard Paragraph E at the end of this notice. The Commission will limit its consideration of comments to those that concern the adequacy or accuracy of the application.

10. Washington Parish Energy Center, LLC

[Docket No. EG01-247-000]

Take notice that on June 25, 2001, Washington Parish Energy Center, LLC (Washington Parish) filed with the Federal Energy Regulatory Commission an application for determination of exempt wholesale generator status pursuant to part 365 of the Commission's regulations.

Washington Parish, a Delaware limited liability company, proposes to own and operate an electric generating facility and sell the output at wholesale to electric utilities, an affiliated power marketer and other purchasers. The facility is a 600 MW natural gas-fired, combined cycle generating facility, which is under development in Bogalusa, Louisiana.

Comment date: July 19, 2001, in accordance with Standard Paragraph E at the end of this notice. The Commission will limit its consideration of comments to those that concern the adequacy or accuracy of the application.

11. PJM Interconnection, L.L.C.

[Docket No. EL01-63-002]

Take notice that on June 25, 2001, PJM Interconnection, L.L.C. (PJM), supplemented its May 21, 2001 compliance filing in order to replace Sheet No. 54 and submit a “Third Revised Sheet No. 54” to the Reliability Assurance Agreement Among Load Serving Entities in the PJM Control Area in order to eliminate the limit on the “Alternate Value” calculation, consistent with the Commission's order in PJM Interconnection, L.L.C., 95 FERC ¶ 61,175 (2001).

Comment date: July 25, 2001, in accordance with Standard Paragraph E at the end of this notice.

12. Mirant Chalk Point, LLC, Mirant Mid-Atlantic, LLC, Mirant Peaker, LLC, and Mirant Potomac River, LLC

[Docket No. EL01-97-000]

Take notice that on June 21, 2001, Mirant Chalk Point, LLC, Mirant Mid-Atlantic, LLC, Mirant Peaker, LLC, and Mirant Potomac River, LLC (together, the Mirant Generators) filed an application, pursuant to Schedule 2 of the PJM Interconnection, L.L.C. (PJM) FERC Electric Tariff, Fourth Revised Volume No. 1, for an order establishing the appropriate allocation by PJM of monthly Reactive Supply and Voltage Control (Reactive Power) payments following transfer of ownership of the electric generation facilities located in the Potomac Electric Power Company (PEPCO) zone from PEPCO to the Mirant Generators and to an affiliate of PEPCO. Under PJM's Schedule 2 procedure, if the parties have failed to reach agreement with respect to a reallocation following ownership transfer, the Commission, upon application, is to establish the allocation. As there has been a failure to reach such agreement, the Mirant Generators hereby apply for a Commission order that Reactive Power payments be allocated among the new owners based upon historical energy production at each of the electric generation facilities in the PEPCO zone.

Comment date: July 19, 2001, in accordance with Standard Paragraph E at the end of this notice.

13. Duke Energy Moss Landing, LLC, Duke Energy Morro Bay, LLC, Duke Energy Oakland, LLC, Duke Energy South Bay, LLC

[Docket Nos. ER98-2680-002, ER98-2681-002, ER98-2682-002, ER99-1785-001]

Take notice that on June 25, 2001, Duke Energy Morro Bay, LLC, Duke Energy Moss Landing, LLC, Duke Energy Oakland, LLC and Duke Energy South Bay, LLC (South Bay), filed an updated market power analysis in compliance with the June 25, 1998 and March 31, 1999, orders of the Commission.

Comment date: July 16, 2001, in accordance with Standard Paragraph E at the end of this notice.

14. Bridgeport Energy LLC

[Docket Nos. ER98-2783-003]

Take notice that on June 25, 2001, Bridgeport Energy LLC tendered for filing an updated market analysis and report of changes in status in compliance with the Commission's order, issued June 24, 1998.

Comment date: July 16, 2001, in accordance with Standard Paragraph E at the end of this notice.

15. New England Power Company

[Docket No. ER01-818-001]

Take notice that on June 25, 2001, in compliance with the Commission's letter order dated January 26, 2001 and Order No. 614, New England Power Company (NEP), as successor to Montaup Electric Company, submitted for filing a complete revised Service Agreement No. 12 (Eastern Edison Company) under Montaup Electric Company, FERC Electric Tariff, First Revised Volume No. 1.

NEP states that a copy of this filing has been served upon each of the parties that was served by NEP in Docket No. ER01-818-000.

Comment date: July 16, 2001, in accordance with Standard Paragraph E at the end of this notice.

16. Cleco Power LLC

[Docket No. ER01-1099-004]

Take notice that Cleco Power LLC, on June 25, 2001, tendered for filing with the Federal Energy Regulatory Commission (Commission ) a Notice of Cancellation pursuant to the Commission Order dated March 28, 2001.

Comment date: July 16, 2001, in accordance with Standard Paragraph E at the end of this notice.

17. Oklahoma Gas & Electric Company

[Docket No. ER01-1567-000 and ER01-1568-000 (Not Consolidated)]

Take notice that on June 26, 2001, the Oklahoma Gas and Electric Company and the Municipal Energy Agency of Mississippi filed a motion requesting that the Commission defer until September 1, 2001 the effective date of the “Power Supply Agreement with the Municipal Energy Agency of Mississippi” filed by OG&E with the Commission on March 21, 2001 in Docket No. ER01-1567-000. In addition, the parties request that the Commission granted them an extension of time—also to September 1, 2001—to comply with the filing designation requirements set forth in the Commission's Order dated April 11, 2001 in Docket No. ER01-1567-000.

Comment date: July 10, 2001, in accordance with Standard Paragraph E at the end of this notice.

18. Mill Run Windpower LLC

[Docket No. ER01-1710-001]

Take notice that on June 13, 2001, Mill Run Windpower LLC (Mill Run) petitioned the Federal Energy Regulatory Commission (Commission) on May 7, 2001, tendered for filing an Amendment to Attachment A to Mill Run's application for an order authorizing market-based rates for granting of certain blanket approvals and for the waiver of certain Commission regulations.

Comment date: July 9, 2001, in accordance with Standard Paragraph E at the end of this notice.

19. Boston Edison Company

[Docket No. ER01-2393-000]

Take notice that on June 21, 2001, Boston Edison Company (Boston Edison) tendered for filing a non-firm point-to-point transmission service agreement between Boston Edison and Axia Energy, L.P. (Axia). Boston Edison sates that the service agreement set out the transmission arrangements under which Boston Edison will provide local non-firm point-to-point transmission service to Axia under Boson Edison's open access transmission tariff accepted for filing in Docket No. ER00-2065-000. Boston Edison requests an effective date of August 21, 2001.

Comment date: July 12, 2001, in accordance with Standard Paragraph E at the end of this notice.

20. Commonwealth Electric Company

[Docket No. ER01-2392-000]

Take notice that on June 21, 2001, Commonwealth Electric Company (Commonwealth) tendered for filing a firm point-to-point transmission service agreement between Commonwealth and Entergy Nuclear Generating Company (Entergy). Commonwealth states that the service agreement sets out the transmission arrangements under which Commonwealth will provide firm point-to-point transmission service to Entergy under Commonwealth's open access transmission tariff accepted for filing in Docket No. ER97-1341-000, subject to refund and issuance of further orders. Commonwealth requests waiver of the Commission's thirty (30) day notice requirement in order to allow the service agreement to become effective on July 1, 2001.

Comment date: July 12, 2001, in accordance with Standard Paragraph E at the end of this notice.

21. Allegheny Energy Service Corporation, on behalf of Allegheny Energy Supply Company LLC

[Docket No. ER01-2394-000]

Take notice that on June 21, 2001, Allegheny Energy Service Corporation on behalf of Allegheny Energy Supply Company, LLC (Allegheny Energy Supply Company) filed First Revised Service Agreement No. 102 to complete the filing requirement for one (1) new Customer of the Market Rate Tariff under which Allegheny Energy Supply offers generation services. Copies of the filing have been provided to the Public Utilities Commission of Ohio, the Pennsylvania Public Utility Commission, the Maryland Public Service Commission, the Virginia State Corporation Commission, the West Virginia Public Service Commission, and all parties of record.

Allegheny Energy Supply maintains the effective date of Service Agreement No. 102 of October 26, 2000 for service to NRG Power Marketing, Inc.

Comment date: July 12, 2001, in accordance with Standard Paragraph E at the end of this notice.

22. IDACORP Energy, LP

[Docket No. ER01-2395-000]

Take notice that on June 21, 2001, IDACORP Energy, LP has filed a Notice of Succession to adopt the rate schedules of IDACORP Energy Solutions, LP.

Comment date: July 12, 2001, in accordance with Standard Paragraph E at the end of this notice.

23. Western Resources, Inc.

[Docket No. ER01-2396-000]

Notice is hereby given that effective June 21, 2001, Western Resources, Inc.”s (WR's) Market Based Rate Tariff Agreement with the Cargill Alliant LLC (Cargill) is to be terminated.

Notice of the proposed termination has been served upon Cargill and the Kansas Corporation Commission.

Comment date: July 12, 2001, in accordance with Standard Paragraph E at the end of this notice.

24. Electric City Energy Producers, LLC

[Docket No. ER01-2397-000]

Take notice that on June 22, 2001, Electric City Energy Producers, LLC (ECEP), a Montana limited liability company, 1900 10th St. N.E., Great Falls, MT, 59404, petitioned the Commission for acceptance of Electric City Energy Producers' Rate Schedule FERC No. 1; the granting of certain blanket approvals, including the authority to sell electricity at market-based rates; waiver of certain Commission regulations; and waiver of notice requirement.

ECEP intends to engage in wholesale electric energy and capacity sales. ECEP is owned by the Montana Refining Company and the Warren Administration Company.

Comment date: July 13, 2001, in accordance with Standard Paragraph E at the end of this notice.

25. Liberty Electric Power, LLC

[Docket No. ER01-2398-000]

Take notice that on June 22, 2001, Liberty Electric Power, LLC (Liberty Electric), with an office located at c/o Orion Power Holdings, Inc., 7 E. Redwood Street, 10th Floor, Baltimore, Maryland 21202, which will own and operate a natural gas-fired electric generating facility to be constructed in the Borough of Eddystone, Pennsylvania submitted for filing with the Federal Energy Regulatory Commission (Commission) its initial FERC Electric Rate Schedule No. 1 which will enable Liberty Electric to engage in the sale of electric energy and capacity and ancillary services at market-based rates.

Comment date: July 13, 2001, in accordance with Standard Paragraph E at the end of this notice.

26. Louisville Gas And Electric Company/Kentucky Utilities Company

[Docket No. ER01-2399-000]

Take notice that on June 22, 2001, Louisville Gas and Electric Company (LG&E)/Kentucky Utilities (KU) (hereinafter Companies) tendered for filing an unexecuted unilateral Service Sales Agreement between Companies and Engage Energy America, LLC under the Companies' Rate Schedule Market-Based Sales Service (MBSS).

Comment date: July 13, 2001, in accordance with Standard Paragraph E at the end of this notice.

27. AES Red Oak, L.L.C.

[Docket No. ER01-2401-000]

Take notice that on June 22, 2001, AES Red Oak, L.L.C. petitioned the Commission for acceptance of AES Red Oak, L.L.C. Rate Schedule FERC No. 1, the granting of certain blanket approvals, including authority to sell capacity, energy and ancillary services at wholesale at market-based rates, and the waiver of certain Commission regulations.

Comment date: July 13, 2001, in accordance with Standard Paragraph E at the end of this notice.

28. Southern California Edison Company

[Docket No. ER01-2402-000]

Take notice that on June 22, 2001, Southern California Edison Company (SCE) tendered for filing an unexecuted Service Agreement for Wholesale Distribution Service between E.F. Oxnard, Inc. (Oxnard) and SCE. This Agreement specifies the terms and conditions pursuant to which SCE will provide Distribution Service for up to 47.7 MW of power produced by Oxnard's generating facility. The facilities necessary to accommodate Oxnard are provided for in the California Public Utilities Commission's (CPUC) jurisdictional Interconnection Facilities Agreement.

SCE respectfully requests that the agreement become effective on May 25, 2001.

Copies of this filing have been served on the State of California Public Utilities Commission and Oxnard.

Comment date: July 13, 2001, in accordance with Standard Paragraph E at the end of this notice.

29. Virginia Electric and Power Company

[Docket No. ER01-2403-000]

Take notice that on June 22, 2001, Virginia Electric and Power Company (Dominion Virginia Power) tendered for filing an executed Generator Interconnection and Operating Agreement (Interconnection Agreement) with Tractebel North America Services, Inc. for the Tractebel Phase I Project. The Interconnection Agreement sets forth the terms and conditions under which Dominion Virginia Power will provide interconnection service for the project.

Dominion Virginia Power requests an effective date of August 22, 2001 for the Interconnection Agreement.

Copies of the filing were served upon Tractebel North America Services, Inc. and the Virginia State Corporation Commission.

Comment date: July 13, 2001, in accordance with Standard Paragraph E at the end of this notice.

30. Automated Power Exchange, Inc.

[Docket No. ER01-2404-000]

Take notice that on June 22, 2001, Automated Power Exchange, Inc. tendered for filing with the Federal Energy Regulatory Commission (Commission) a revision to the rate schedule under which APX offers power exchange services in the APX California Market.

APX requests that the revision to the rate schedule become effective on June 22, 2001.

Comment date: July 13, 2001, in accordance with Standard Paragraph E at the end of this notice.

31. Southern Company Services, Inc.

[Docket No. ER01-2406-000]

Take notice that on June 22, 2001, Southern Company Services, Inc. (SCS), acting on behalf of Alabama Power Company, Georgia Power Company, Gulf Power Company, Mississippi Power Company, and Savannah Electric and Power Company (collectively referred to as Southern Company), filed five (5) service agreements for long-term firm point-to-point transmission service agreements with PECO Power Team (regarding OASIS Request 132540); PECO Power Team (regarding OASIS Request 256883); Dynegy Power Marketing, Inc. (regarding OASIS Requests 250005); Southern Wholesale Energy (regarding OASIS Requests 214515 and 214516); and Southern Wholesale Energy (regarding OASIS Requests 214517 and 214518) under the Open Access Transmission Tariff (Tariff) of Southern Company (FERC Electric Tariff, Fourth Revised Volume No. 5). Additionally, SCS, acting on behalf of Southern Company, filed one (1) non-firm point-to-point transmission service agreement with Calpine Energy Services, LP under the Tariff.

Comment date: July 13, 2001, in accordance with Standard Paragraph E at the end of this notice.

32. New England Power Company

[Docket No. ER01-2407-000]

Take notice that on June 22, 2001, New England Power Company (NEP), as successor in interest to Montaup Electric Company (Montaup) submits for filing notices of cancellation of four service agreements under Montaup's FERC Electric Tariff, First Revised Volume No. 1. NEP is canceling these service agreements because service is no longer provided under them.

The four service agreements are:

Service Agreement No. 1 (Fall River Electric Light Company)

Service Agreement No. 13 (Blackstone Valley Electric Company)

Service Agreement No. 14 (Newport Electric Corporation)

Service Agreement No. 15 (Eastern Edison Company)

Comment date: July 13, 2001, in accordance with Standard Paragraph E at the end of this notice.

33. Carolina Power & Light Company

[Docket No. ER01-2408-000]

Take notice that on June 22, 2001, Carolina Power & Light Company (CP&L) amended the Service Agreement originally filed in this docket with Washington Gas Energy Services, Inc. to reflect the correct Service Agreement number. Service to this eligible buyer will be in accordance with the terms and conditions of CP&L's Market-Based Rates Tariff, FERC Electric Tariff No. 4, for sales of capacity and energy at market-based rates.

CP&L requests an effective date of March 28, 2001 for this Service Agreement.

Copies of the filing were served upon the North Carolina Utilities Commission and the South Carolina Public Service Commission.

Comment date: July 13, 2001, in accordance with Standard Paragraph E at the end of this notice.

34. Florida Power Corporation

[Docket No. ER01-2409-000]

Take notice that on June 22, 2001, Florida Power Corporation (FPC) filed a Service Agreement with Dynegy Power Marketing, Inc. under FPC's Market-Based Wholesale Power Sales Tariff (SM-1), FERC Electric Tariff No. 10.

FPC is requesting an effective date of June 22, 2001 for this Agreement.

A copy of this filing was served upon the Florida Public Service Commission.

Comment date: July 13, 2001, in accordance with Standard Paragraph E at the end of this notice.

35. UtiliCorp United Inc.

[Docket No. ER01-2410-000]

Take notice that on June 22, 2001, UtiliCorp United Inc. (UtiliCorp) tendered for filing Service Agreement No. 93 under UtiliCorp's FERC Electric Tariff, Third Revised Volume No. 25, a non-firm point-to-point transmission service agreement between UtiliCorp's WestPlains Energy-Colorado division and El Paso Merchant Energy, L.P.

UtiliCorp requests an effective date for the service agreement of June 5, 2001.

Comment date: July 13, 2001, in accordance with Standard Paragraph E at the end of this notice.

36. UtiliCorp United Inc.

[Docket No. ER01-2411-000]

Take notice that on June 22, 2001, UtiliCorp United Inc. (UtiliCorp) tendered for filing Service Agreement No. 92 under UtiliCorp's FERC Electric Tariff, Third Revised Volume No. 25, a short-term firm point-to-point transmission service agreement between UtiliCorp's WestPlains Energy-Colorado division and El Paso Merchant Energy, L.P.

UtiliCorp requests an effective date for the service agreement of June 5, 2001.

Comment date: July 13, 2001, in accordance with Standard Paragraph E at the end of this notice.

37. Southern Company Services, Inc.

[Docket No. RT01-77-000]

Take notice that on June 20, 2001, Southern Company Services, Inc., acting on behalf of Alabama Power Company, Georgia Power Company, Gulf Power Company, Mississippi Power Company and Savannah Electric and Power Company (Southern Companies) tendered for filing with the Federal Energy Regulatory Commission (Commission), a supplement to its Status Report filed on May 14, 2001, informing the Commission that additional participants had executed memoranda of understanding to participate in the development of an RTO.

Comment date: July 20, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-16892 Filed 7-5-01; 8:45 am]

BILLING CODE 6717-01-P